DEPARTMENT OF ENERGY

Intent To Revise Power Marketing Policy Cumberland System of Projects

AGENCY: Southeastern Power Administration (Southeastern), Department of Energy (DOE).

ACTION: Notice of intention to begin a public process.

SUMMARY: Pursuant to its Procedure for Public Participation in the Formulation of Marketing Policy, published in the Federal Register of July 6, 1978, Southeastern Power Administration (Southeastern) intends to revise its marketing policy by including provisions regarding renewable energy certificates (RECs) from its Cumberland System of Projects. The current power marketing policy was published on August 5, 1993, for the Southeastern Cumberland System, and is reflected in contracts for the sale of system power, which are maintained in the Southeastern headquarters office. Southeastern solicits written comments and proposals in formulating the proposed marketing policy revision.

DATES: Comments and proposals must be submitted on or before December 20, 2021.

ADDRESSES: Written comments or proposals should be submitted to Virgil G. Hobbs III, Administrator, Southeastern Power Administration, 1166 Athens Tech Road, Elberton, GA 30635-6711, (706) 213-3800, Comments@sepa.doe.gov.

FOR FURTHER INFORMATION CONTACT: Leon Jourolmon IV, General Counsel, (706) 213-3800, Comments@sepa.doe.gov.

SUPPLEMENTARY INFORMATION: A “Final Power Marketing Policy Cumberland System of Projects” was developed and published in the Federal Register on August 5, 1993, 58 FR 41762, by Southeastern. The policy establishes the marketing area for system power and addresses the utilization of area utility systems for essential purposes. The policy also addresses wholesale rates, resale rates, and conservation measures, but does not address RECs.

Under Section 5 of the Flood Control Act of 1944 (16 U.S.C. 825s), Southeastern is responsible for the transmission and disposition of electric power and energy from reservoir projects operated by the Department of the Army. Furthermore, Southeastern must transmit and dispose of such power and energy in a manner that offers the most widespread use at the lowest possible rates to consumers consistent with sound business principles. Rate schedules are drawn with regards to the recovery of the cost of producing and transmitting such electric energy.

The Cumberland System consists of nine projects: Barkley, Center Hill, Cheatham, Cordell Hull, Dale Hollow, Laurel, Old Hickory, J. Percy Priest, and Wolf Creek. The power from the projects is currently marketed to Preference Customers located in the service areas of the Tennessee Valley Authority, Big Rivers Electric Corporation, Duke Energy Progress, East Kentucky Power Cooperative, Kentucky Utilities, Municipal Electric Agency of Mississippi, Mississippi Delta Energy Agency, the seven-member Cooperative Energy currently receiving Cumberland power, and Southern Illinois Power Cooperative.

Southeastern has been using the Generation Attribute Tracking System (GATS) provided through PJM Interconnection, LLC, for the Kerr-Philpott System of Projects. The attributes are unbundled from the megawatt-hour of energy produced and recorded onto a certificate. These certificates may be used by electricity suppliers and other energy market participants to comply with relevant state policies and regulatory programs and to support voluntary “green” electricity markets. Southeastern is considering using the similar M-RETS® product or another product for distributing certificates to current Preference Customers with allocations of power from the Cumberland System.

The REC tracking system Southeastern selects should be capable of tracking environmental attributes used for voluntary claims in all states, provinces, and territories in North America.

Upon formulating a proposed revision to the Cumberland System marketing policy to address RECs, Southeastern will publish the proposal in the Federal Register and begin a sixty-day comment period pursuant to its Procedures for Public Participation in the Formulation of Marketing Policy.

Signing Authority

This document of the Department of Energy was signed on October 12, 2021, by Virgil G. Hobbs III, Administrator for Southeastern Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 15, 2021.
Treena V. Garrett,
Federal Register Liaison Officer, U.S. Department of Energy.

[FR Doc. 2021-22873 Filed 10-20-21; 8:45 am]

BILLING CODE 6450-01-P